DEPARTMENT OF COMMERCE

International Trade Administration

[C-580-837]

Certain Cut-to-Length Carbon-Quality Steel Plate From the Republic of Korea: Final Results of Countervailing Duty Administrative Review and New Shipper Review; Calendar Year 2014

AGENCY: Enforcement and Compliance, International Trade Administration, Department of Commerce

SUMMARY: The Department of Commerce (the Department) completed the administrative review (AR) and new shipper review (NSR) of the countervailing duty (CVD) order on cut-to-length carbon-quality steel plate (CTL Plate) from the Republic of Korea for the January 1, 2014, through December 31, 2014, period of review (POR). Based on our analysis of the comments received, the Department determined that Dongkuk Steel Mill Co., Ltd. (DSM), the firm examined in the AR, and Hyundai Steel Company Ltd. (Hyundai Steel), the firm examined in the NSR, each received a de minimis net subsidy rate during the POR. The final net subsidy rates are listed below in the “Final Results of Review” section.

DATES: Effective September 19, 2016.

FOR FURTHER INFORMATION CONTACT: John Conniff at 202-482-1009 (for Hyundai Steel), or Jolanta Lawska at 202-482-8362 (for DSM), AD/CVD Operations, Office III, Enforcement and Compliance, International Trade Administration, U.S. Department of Commerce, 1401 Constitution Avenue NW., Washington, DC 20230.

SUPPLEMENTARY INFORMATION:

Background

On February 10, 2000, the Department published in the Federal Register the CTL Plate Order.¹ On March 14, 2016, the Department published its preliminary results of AR and NSR of the CVD order on CTL Plate from the Republic of Korea for the POR.² For a discussion of the events following the Preliminary Results, see the Preliminary Decision Memorandum.

¹ See Notice of Amended Final Determination: Certain Cut-to-Length Carbon-Quality Steel Plate From India and the Republic of Korea; and Notice of Countervailing Duty Orders: Certain Cut-to-Length Carbon-Quality Steel Plate from France, India, Indonesia, Italy, and the Republic of Korea, 65 FR 6587 (February 10, 2000) (CTL Plate Order).

² See Certain Cut-to-Length Carbon-Quality Steel Plate from the Republic of Korea: Preliminary Results of Countervailing Duty Administrative Review and New Shipper Review; Calendar Year 2014, 81 FR 13330 (March 14, 2016) (Preliminary Results), and accompanying Preliminary Decision Memorandum.

Scope of the Order

The products covered by the order are certain hot-rolled carbon-quality steel: (1) Universal mill plates (i.e., flat-rolled products rolled on four faces or in a closed box pass, of a width exceeding 150 mm but not exceeding 1250 mm, and of a nominal or actual thickness of not less than 4 mm, which are cut-to-length (not in coils) and without patterns in relief), of iron or non-alloy-quality steel; and (2) flat-rolled products, hot-rolled, of a nominal or actual thickness of 4.75 mm or more and of a width which exceeds 150 mm and measures at least twice the thickness, and which are cut-to-length (not in coils).

The merchandise subject to the order is currently classifiable in the Harmonized Tariff Schedule of the United States (HTSUS) under subheadings: 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000, 7225.40.3050, 7225.40.7000, 7225.50.6000, 7225.99.0090, 7226.91.5000, 7226.91.7000, 7226.91.8000, 7226.99.0000.

Although the HTSUS subheadings are provided for convenience and customs purposes, the written description of the merchandise covered by the order is dispositive.³

³ For a complete description of the scope of the order, see Memorandum from Christian Marsh, Deputy Assistant Secretary for Antidumping and Countervailing Duty Operations, to Ronald K. Lorentzen, Acting Assistant Secretary for Enforcement and Compliance, “Decision Memorandum for Final Results of 2014 Countervailing Duty Administrative Review and New Shipper Review: Cut-to-Length Carbon-Quality Steel Plate from the Republic of Korea,” (Issues and Decision Memorandum), dated concurrently and hereby adopted by this notice.

Methodology

The Department conducted this review in accordance with section 751(a)(1)(A) of the Tariff Act of 1930, as amended (the Act). For the subsidy program found countervailable during the POR, we determine that there is a subsidy, i.e., a government-provided financial contribution that confers a benefit to the recipient, and that the subsidy is specific. See sections 771(5)(B) and (D) of the Act regarding financial contribution; section 771(5)(E) of the Act regarding benefit; and section 771(5A) of the Act regarding specificity. For a complete description of the methodology, see the Issues and Decision Memorandum.

Analysis of Comments Received

All issues raised in interested parties' case briefs, submitted in this proceeding, are addressed in the Issues and Decision Memorandum. A list of the issues raised by interested parties and to which we responded in the Issues and Decision Memorandum, is attached to this notice as Appendix I. The Issues and Decision Memorandum is a public document and is on file electronically via Enforcement and Compliance's Antidumping and Countervailing Duty Centralized Electronic Service System (ACCESS). ACCESS is available to registered users at https://access.trade.gov, and is available to all parties in the Central Records Unit, room B8024 of the main Commerce building. In addition, a complete version of the Issues and Decision Memorandum can be accessed directly at http://enforcement.trade.gov/frn/. The signed Issues and Decision Memorandum and the electronic versions of the Issues and Decision Memorandum are identical in content.

Final Results of Review

In accordance with 19 CFR 351.221(b)(4)(i), we calculated an individual subsidy rate for DSM, the firm subject to the AR and Hyundai Steel, the firm subject to the NSR. For the period January 1, 2014, through December 31, 2014, we determine the total net countervailable subsidy rates for DSM and Hyundai are as follows:

Company | 2014 Ad Valorem rate
Dongkuk Steel Mill Co., Ltd | 0.01 percent ad valorem (de minimis).
Hyundai Steel Company Ltd | 0.23 percent ad valorem (de minimis).

Disclosure

We intend to disclose to parties in this proceeding the calculations performed for these final results within five days of the date of the publication of this notice in the Federal Register, in accordance with 19 CFR 351.224(b).

Assessment Rates

In accordance with 19 CFR 351.212(b)(2), the Department intends to issue assessment instructions to U.S. Customs and Border Protection (CBP) 15 days after the date of publication of these final results to liquidate shipments of subject merchandise produced by DSM and Hyundai Steel entered, or withdrawn form warehouse, for consumption on or after January 1, 2014, through December 31, 2014, without regard to CVDs because a de minimis subsidy rate was calculated for each company.

Cash Deposit Instructions

The Department also intends to instruct CBP to collect cash deposits of zero percent on shipments of the subject merchandise produced and/or exported by DSM and Hyundai Steel entered or withdrawn from warehouse, for consumption on or after the date of publication of the final results of this review. For all non-reviewed firms, we will instruct CBP to collect cash deposits of estimated countervailing duties at the most recent company-specific or all-others rate applicable to the company. These cash deposit requirements, when imposed, shall remain in effect until further notice.

Return or Destruction of Proprietary Information

This notice also serves as a reminder to parties subject to administrative protective order (APO) of their responsibility concerning the disposition of proprietary information disclosed under APO in accordance with 19 CFR 351.305(a)(3). Timely written notification of the return/destruction of APO materials or conversion to judicial protective order is hereby requested. Failure to comply with the regulations and the terms of an APO is a sanctionable violation.

We are issuing and publishing these final results in accordance with sections 751(a)(1) and 777(i)(1) of the Act.

Dated: September 12, 2016.
Ronald K. Lorentzen,
Acting Assistant Secretary for Enforcement and Compliance.

Appendix

I. Summary

II. Period of Review

III. Scope of the Order

IV. Attribution of Subsidies

V. Bona Fides Analysis

VI. Analysis of Programs

VII. Analysis of Comments

Comment 1: Whether the Department Should Initiate an Investigation into the GOK's Provision of Electricity for less than adequate remuneration (LTAR)

Comment 2: Whether the Department Improperly Countervailed Acquisition Tax Exemptions Received By Hyundai Steel under the Restrictions of Special Taxation Act (RSTA) Article 120 in Connection with its Acquisition of HYSCO's Cold-Rolled Assets

Comment 3: Whether the Department Improperly Countervailed Property Tax Exemptions Received by the Pohang Plant under the Restriction of Special Location Taxation Act (RSLTA)

Comment 4: Whether the Department Should Initiate an Investigation into the GOK's Provision of Electricity for More than Adequate Remuneration (MTAR)

VIII. Recommendation

[FR Doc. 2016-22403 Filed 9-16-16; 8:45 am]

BILLING CODE 3510-DS-P